DEPARTMENT OF HEALTH AND HUMAN SERVICES

Administration for Children and Families

Submission for OMB Review; Comment Request

Title: Evaluation of the Refugee Social Service (RSS) and Targeted Assistance Formula Grant (TAG) Programs: Data Collection.

OMB No.: 0970-0296.

Description: The Office of Refugee Resettlement (ORR) within the U.S. Department of Health and Human Services (HHS) funds the Refugee Social Services (RSS) and Targeted Assistance Formula Grant (TAG) programs, which are designed to help refugees achieve economic success quickly following their arrival in the United states through employment services, English-language instruction, vocational training, and other social services. ORR is sponsoring a project to (a) Conduct a comprehensive evaluation of the effectiveness of ORR employability services through RSS and TAG, and (b) propose options for institutionalizing ongoing evaluation and performance assessment into the programs.

ORR is requesting renewal of OMB clearance for a survey of refugees that is collecting data on refugees' employment and earnings outcomes. Survey interviews began in July 2006, and are still ongoing. The survey is being conducted in three cities: Houston, Miami, and Sacramento. The survey relies on a mixed-mode data collection method that involves both telephone and in-person interviews. If individuals cannot be reached by phone, an attempt is made to contact them in person. Three hundred refugees from a randomly selected sample in each site will complete the survey, for a total of 900 refugees.

While locating and interviewing this population was expected to be difficult due to their high mobility, achieving the goal of 900 complete responses needed for reliable analysis, while maintaining reasonable response rates, has proven more time-consuming than expected. As of January 26, 2007, 668 refugees have already completed the survey. Conservatively estimating that slightly more than half of the remaining 232 cases are completed before the current clearance expires, about 100 interviews would be needed during the extension period. Consequently, ORR is requesting clearance to continue the survey past its current expiration date in March 2007.

Respondents: Refugees and related populations that qualify for RSS/TAG services who entered the United States between October 1999 and September 2004.

Annual Burden Estimates
Instrument | Number of respondents | Number of responses per respondent | Average burden hours per response | Total burden hours
Survey of Refugees | 100 | 1 | 0.75 | 75
Estimated Total Annual Burden Hours: 75

Additional Information: Copies of the proposed collection may be obtained by writing to the Administration for Children and Families, Office of Administration, Office of Information Services, 370 L'Enfant Promenade, SW., Washington, DC 20447, Attn: ACF Reports Clearance Officer. E-mail address: infocollection@acf.hhs.gov. All requests should be identified by the title of the information collection.

OMB Comment: OMB is required to make a decision concerning the collection of information between 30 and 60 days after the publication of this document in the Federal Register. Therefore, a comment is best assured of having its full effect if OMB receives it within 30 days of publication. Written comments and recommendations for the proposed information collection should be sent directly to the following: Office of Management and Budget, Paperwork Reduction Project, FAX: 202-395-6974, Attn: Desk Officer for the Administration for Children and Families.

Dated: February 13, 2007.
Robert Sargis,
Reports Clearance Officer.

[FR Doc. 07-771 Filed 2-20-07; 8:45 am]

BILLING CODE 4184-01-M